CORPORATION FOR NATIONAL AND COMMUNITY SERVICE

Revision of a Currently Approved Information Collection; Submission for OMB Review; Comment Request

AGENCY: Corporation for National and Community Service.

ACTION: Notice.

The Corporation for National and Community Service (hereinafter the “Corporation”), has submitted the following public information collection requests (ICRs) to the Office of Management and Budget for review and approval in accordance with the Paperwork Reduction Act of 1995 (Pub. L. 104-13. (44 U.S.C. Chapter 35)). Copies of these individual ICRs, with applicable supporting documentation, may be obtained by calling the Corporation for National and Community Service, Office of the National Senior Service Corps, Attn: Mr. Peter L. Boynton, (202) 606-5000, extension 499. Individuals who use a telecommunications device for the deaf (TDD) may call (202) 565-2799 between the hours of 9:00 a.m. and 4:30 p.m. Eastern time, Monday through Friday.

Comments should be sent to the Office of Information and Regulatory Affairs, Attn: Mr. Daniel Werfel, OMB Desk Officer for the Corporation for National and Community Service, Office of Management and Budget, Room 10235, Washington, DC 20503, (202) 395-7326, within 30 days of this publication in the Federal Register.

The OMB is particularly interested in comments which:

• Evaluate whether the proposed collection of information is necessary for the proper performance of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g., permitting electronic submissions of responses.

Type of Review: Revision of Currently Approved Information Collection.

Agency: Corporation for National and Community Service.

Title: National Senior Service Corps Project Progress Report.

OMB Number: OMB 3045-0033.

Agency Number: A-1020.

Affected Public: Sponsors of National Senior Service Corps grants.

Total Respondents: Approximately 1304.

Frequency: Annual, with exceptions. It is estimated that 700 will respond annually, 500 semi-annually, and 100 quarterly.

Average Time Per Response: 9.6 hours.

Estimated Total Burden Hours: 12,576 hours.

Total Burden Cost (capital/startup): None.

Total Burden Cost (operating/maintenance): $2,605.

Description: The Corporation seeks to revise the current Project Progress Report.

• In order to reflect and mirror the revised regulations for the Senior Companion, Foster Grandparent, and Retired and Senior Volunteer Programs, contained in 45 CFR Parts 2551, 2552, and 2553, published in the Federal Register on March 24, 1999; and

• To eliminate current use of the PPR for collection of Government Performance and Results Act (GPRA) performance data.

The revised PPR will be used by NSSC grantees to report progress toward accomplishing work plan goals and objectives, meeting challenges encountered, describing significant activities, and requesting technical assistance.

Dated: April 24, 2000.
Thomas E. Endres,
Director, National Senior Service Corps, Corporation for National and Community Service.

[FR Doc. 00-10613 Filed 4-27-00; 8:45 am]

BILLING CODE 6050-28-U